DEPARTMENT OF LABOR

Employment and Training Administration

[TA-W-62,345]

Marathon USA, LLC, Medford, OR; Notice of Termination of Investigation

Pursuant to section 221 of the Trade Act of 1974, as amended, an investigation was initiated on October 23, 2007 in response to a worker petition filed by a company official on behalf of workers at Marathon USA, LLC, Medford, Oregon.

The petitioner has requested that the petition be withdrawn. Consequently, the investigation has been terminated.

Signed at Washington, DC this 29th day of October 2007.
Richard Church,
Certifying Officer, Division of Trade Adjustment Assistance.

[FR Doc. E7-21741 Filed 11-5-07; 8:45 am]

BILLING CODE 4510-FN-P